FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012067-011.

Title: U.S. Supplemental Agreement to HLC Agreement.

Parties: BBC Chartering & Logistics GmbH & Co. KG; Beluga Chartering GmbH; Chipolbrok; Clipper Projects Ltd; Hyundai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment would delete Beluga Chartering GmbH and Clipper Projects Ltd. as parties to the U.S. agreement, change the addresses of other parties to the U.S. agreement, change the criteria for membership in the U.S. and HLC agreements, and update the list of other parties to the HLC agreement.

Agreement No.: 012325.

Title: EUKOR Car Carriers, Inc./Hoegh Autoliners Middle East Space Charter Agreement.

Parties: EUKOR Car Carriers, Inc. and Hoegh Autoliners AS.

Filing Party: Neal M. Mayer Esq.; Hoppel, Mayer & Coleman; 1050 Connecticut Ave. NW.; Washington, DC 20036.

Synopsis: The agreement establishes a space charter agreement in the trade between the U.S. East and Gulf Coasts on the one hand, and ports along the Arabian Sea, Red Sea, Persian Gulf and Middle East, India and Pakistan on the other hand.

By Order of the Federal Maritime Commission.
Dated: April 3, 2015.
Karen V. Gregory,
Secretary.

[FR Doc. 2015-08083 Filed 4-7-15; 8:45 am]

BILLING CODE 6730-AA-P